DEPARTMENT OF HEALTH AND HUMAN SERVICES

Indian Health Service

Customer Satisfaction Survey; Request for Public Comment

AGENCY: Indian Health Service, HHS.

ACTION: Request for Public Comment: 30-day notice; Proposed Information Collection: Indian Health Service Customer Satisfaction Survey.

SUMMARY: In compliance with Section 3507(a)(1)(D) of the Paperwork Reduction Act of 1995, for opportunity for public comment on proposed information collection projects, the Indian Health Service (HHS) has submitted to the Office of Management and Budget (OMB) a request to review and approve the information collection listed below. This proposed information collection project was previously published in the Federal Register (65 FT 18120) on April 6, 2000 and allowed 60 days for public comment. No public comment was received in response to the notice. The purpose of this notice is to allow 30 days for public comment to be submitted to OMB.

Proposed Collection

Title: “Indian Health Service Customer Satisfaction Survey.” Type of Information Collection Request: New. Form Number: None. Need and Use of the Information Collection: Executive Order 12862, “Setting Customer Service Standards” directs agencies “that provide significant services directly to the public” to “survey customers to determine the kind and quality of services they want and their level of satisfaction with existing services.” The proposed customer satisfaction survey is designed to assess the level of customer (patient) satisfaction with the services provided at HHS-operated health care facilities. Voluntary customer service surveys will provided at IHS-operated health care facilities. Voluntary customer service surveys will be conducted at IHS-operated health care facilities. The information gathered will be used by agency management and staff to identify strengths and weaknesses in current service provision, to plan and redirect resources to make improvements that are practical and feasible, and to provide vital feedback to local health officials, health boards, and community members regarding customer satisfaction with the health care and related services being provided. Affected Public: Individuals. Type of Respondents: Individuals.

The table below provides burden hour information.

Table
Data Collection Instrument | Estimated No. of Respondents | Responses per Respondent | Average burden hour per response* | Total annual burden hrs
Customer Satisfaction Survey | 7500 | 1 | 0.25 hr (15 minutes) | 1875.0
Total | 7500 | 1 |  | 1875.0
*The ease of understanding, burden hours are also provided in actual minutes.

There are no Capital Costs, Operating Costs and/or Maintenance Costs to report for this information collection.

Request for Comments

Your written comments and/or suggestions are invited on one or more of the following points: (a) Whether the information collection activity is necessary to carry our an agency function; (b) whether the IHS processes the information collected in a useful and timely fashion; (c) the accuracy of the public burden estimate (the estimated amount of time needed for individual respondents to provide the requested information); (d) whether methodology and assumptions used to determine the estimate are logical; (e) ways to enhance the quality,utility, and clarity of the information being electronic, mechanical, or other technological collection techniques or other forms of information technology.

Direct Comments to OMB

Send your written comments and suggestions regarding the proposed information collection contained in this notice, especially regarding the estimated public burden and associated response time, to: Office of Management and Budget, Office of Regulatory Affairs, New Executive Office Building, Room 10235, Washington, DC 20503, Attention: Desk Officer for IHS. To request more information on the proposed collection or to obtain a copy of the data collection plan(s) and/or instruction(s), contact: Mr. Lance Hodahkwen, Sr., M.P.H., IHS Reports Clearance Officer, 12300 Twinbrook Parkway, Suite 450, Rockville, MD 20852-1601, or call non-toll free (301) 443-2613, or send your e-mail requests, comments, and return address to: lhodahkwen@hqe.ihs.gov.

Comment Due Date

Comments regarding this information collection are best assured of having their full effect if received within 30-days of the date of this publication.

Dated: October 10, 2001.
Michael H. Trujillo, M.D., M.P.H., M.S.,
Assistant Surgeon General, Director, Indian Health Service.

[FR Doc. 01-26653 Filed 10-22-01; 8:45 am]

BILLING CODE 4160-16-M